DEPARTMENT OF THE INTERIOR

Bureau of Reclamation

[INT-DES 09-56]

Minidoka Dam Spillway Replacement Minidoka County, ID

AGENCY: Bureau of Reclamation, Interior.

ACTION: Notice of Availability and Public Meetings on the Draft Environmental Impact Statement for Minidoka Dam Spillway Replacement.

SUMMARY: Pursuant to section 102(2)(C) of the National Environmental Policy Act (NEPA) of 1969, as amended, the Bureau of Reclamation (Reclamation) has prepared a Draft Environmental Impact Statement (DEIS) on the proposed Minidoka Dam Spillway Replacement. Alternatives considered in the DEIS are the No Action, as required under NEPA; total replacement of the spillway and headgate structures; and replacement of just the spillway. The U.S. Fish and Wildlife Service is a cooperating agency under NEPA.

DATES: Public meetings with an opportunity to provide oral comments will be held on the following dates and times:

• Idaho Falls, ID: January 12, 2010: 7 p.m. to 9 p.m.

• Pocatello, ID: January 13, 2010: 7 p.m. to 9 p.m.

• Burley, ID: January 14, 2010: 7 p.m. to 9 p.m.

Written comments will be accepted through February 5, 2010. Please direct requests for sign language interpretation for the hearing impaired or other auxiliary aids, to Ms. Allyn Meuleman by December 28, 2009, at the telephone or fax numbers listed under the FOR FURTHER INFORMATION CONTACT section of this notice.

ADDRESSES: Comments and requests to be added to the mailing list may be submitted to Bureau of Reclamation, Snake River Area Office, Attention: Allyn Meuleman, Activity Manager, 230 Collins Road, Boise, ID 83702-4520. Comments may also be submitted electronically to minidoka_dam_eis@usbr.gov.

The public meetings will be held at the following locations which are physically accessible to people with disabilities.

• Red Lion Inn, 475 River Parkway, Idaho Falls, ID 83402.

• Cotton Tree Inn, 1415 Bench Road, Pocatello, ID 83201.

• Fairfield Inn, 230 West 7th Street North, Burley, ID 83318.

FOR FURTHER INFORMATION CONTACT: Contact Allyn Meuleman, (208) 383-2258, fax: (208) 383-2237. Information on this project can also be found at: http://www.usbr.gov/pn/programs/eis/minidokadam/index.html.

SUPPLEMENTARY INFORMATION: Minidoka Dam impounds Lake Walcott and is a feature of Reclamation's Minidoka Project. They are located on the main stem Snake River about 18 miles northeast from the city of Burley, ID within the Minidoka Wildlife Refuge. After over 103 years of continued use, the over 2000 feet long concrete spillway at the Minidoka Dam has reached the end of its functional lifespan. The concrete that forms the spillway crest and the piers of the pier-and-stoplog structure shows extensive visible deterioration at numerous locations. In addition, the potential for ice damage to the stoplog piers requires that reservoir water levels be dropped each winter. The headgate structures at the North Side Canal and South Side Canal also show serious concrete deterioration similar to that seen along the spillway. The current conditions of the Minidoka Dam spillway and headgate structures present increasingly difficult reliability and maintenance problems. If structural problems are not corrected there is potential of partial or complete failure of the spillway and headgates. If these failures occur, Reclamation may not be able to meet contractual obligations for water delivery, power generation and Reclamation's commitments to deliver flow augmentation water under the Nez Perce Settlement Agreement and the Endangered Species Act.

Public Involvement

Reclamation will conduct public meetings to solicit input on the DEIS. If you wish to comment, you may provide your comments as indicated under the ADDRESSES section. Before including your name, address, phone number, e-mail address, or other personal identifying information in your comment, you should be aware that your entire comment (including your personal identifying information) may be made publicly available at any time. While you can ask us in your comment to withhold your personal identifying information from public review, we cannot guarantee that we will be able to do so.

J. William McDonald,
Regional Director, Pacific Northwest Region.

[FR Doc. E9-29605 Filed 12-10-09; 8:45 am]

BILLING CODE 4310-MN-P